DEPARTMENT OF TRANSPORTATION

Federal Motor Carrier Safety Administration

[Docket No. FMCSA-2020-0081]

Inspection, Repair and Maintenance; Inspector Qualifications; Intermodal Association of North America (IANA) Application for Renewal of Exemption

AGENCY: Federal Motor Carrier Safety Administration (FMCSA), Department of Transportation (DOT).

ACTION: Notice of final disposition; renewal of exemption.

SUMMARY: FMCSA announces its final decision to renew an exemption requested by the Intermodal Association of North America (IANA) to allow an individual who completes a training program consistent with IANA's Intermodal Recommended Practices (IRPs) to be considered a qualified inspector for purposes of the periodic inspection of intermodal equipment (IME), or a qualified brake inspector, for purposes of the brake system inspection, repair, and maintenance requirements of IME.

DATES: This renewed exemption is effective from August 18, 2025, and expires on August 17, 2030.

FOR FURTHER INFORMATION CONTACT: Mr. David Sutula, Chief, FMCSA Vehicle and Roadside Operations Division, Office of Carrier, Driver, and Vehicle Safety Standards; (202) 366-9209; MCPSV@dot.gov. If you have questions on viewing or submitting material to the docket, call Dockets Operations at (202) 366-9826.

SUPPLEMENTARY INFORMATION:

I. Public Participation

Viewing Comments and Documents

To view any documents mentioned as being available in the docket, go to https://www.regulations.gov/docket/FMCSA-2020-0081/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analyses. The Agency must also provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish the decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

The FMCSRs require individuals performing (1) annual inspections of commercial motor vehicles (CMVs) under 49 CFR 396.17, or (2) inspections, maintenance, repairs, or service to the brake systems on CMVs under § 396.25, to be properly qualified to perform such inspections. Under §§ 396.19(a)(3)(ii) and 396.25(d)(3)(ii), an individual who has a combination of training or experience totaling at least 1 year as outlined in those sections is considered to be qualified to conduct those inspections.

IV. Application for Renewal of Exemption

The initial exemption application from IANA was described in detail in a Federal Register notice on August 18, 2020 (85 FR 50876) and will not be repeated here as the facts have not changed since that time. FMCSA published a Federal Register notice announcing the application for exemption renewal on July 1, 2025 (90 FR 28858).

V. Public Comments

The Agency received two comments to the public docket, one opposing the exemption renewal and one that is not relevant to the exemption application.

AWM Associates, LLC (AWM) contends that “Since 2005 the IANA, its members, and non-members have continued to neglect intermodal chassis dispatching chassis [sic] that fall short of the FMCSR causing a negative impact to carriers' CSA scores.” AWM references a 2005 crash at the Hampshire Illinois Toll Booth.

VI. Agency Decision

FMCSA has evaluated IANA's application and the public comment. For the reasons discussed below, FMCSA has determined that granting the exemption renewal to continue allowing individuals who successfully complete a performance-based training program consistent with the IRPs and associated requirements developed by IANA, instead of the time-based training and experience requirements specified in the FMCSRs, would likely achieve a level of safety equivalent to or greater than the level of safety provided by compliance with the regulations.

In 2015, IANA established a Mechanics Training Task Force as part of its Maintenance & Repair Committee. As an initial step, the Task Force evaluated the processes necessary for the inspection and repair of intermodal equipment, and developed recommended practices and training for the mechanics who inspect and work on the equipment. These recommendations were based on IANA's analysis of FMCSA inspection data for intermodal equipment over a 5-year period that identified specific vehicle components that routinely are the subject of out-of-service violations.

IANA stated that the goal of the Task Force was to develop processes and procedures to assist the industry in complying with the requirements in part 393, part 396, and Appendix G (now recodified as Appendix A to part 396) relating to intermodal equipment. Specifically, the Task Force developed (1) a framework for the development of recommended practices for the inspection and repair of IME, (2) a set of IRPs to guide the inspection and repair of IME, and (3) a training methodology and set of guidelines that increases and enhances the skills of an individual in the inspection and repair of IME. The Task Force included representation from all key stakeholder groups and developed the work product as outlined in the three areas discussed above over the course of 3 years. IANA's Maintenance & Repair Committee, which includes additional stakeholder representatives from across the industry, ultimately reviewed and approved the Task Force's work product.

FMCSA has reviewed the IANA Guide that includes the 53 individual IRPs and associated resources, along with the Competency Documents, Task Lists, and Question Matrix that together establish the framework for the training program. In addition, the Maintenance & Repair Committee determined that inspectors/mechanics need at least 480 hours of training on the materials discussed above, with approximately one-third of the instruction classroom-based and approximately two-thirds of the instruction laboratory/hands-on based. FMCSA believes that an individual who successfully completes a training program consistent with the IANA IRPs and associated requirements will possess the skills and knowledge to be a highly proficient and efficient inspector, without the need to have a minimum of 1 year of training or experience or a combination thereof. FMCSA agrees that the establishment of recommended inspection and repair practices and training guidelines through a program based on the IANA IRPs and associated requirements will have a positive impact on the safety and roadworthiness of IME, and by extension, the traveling public.

In response to the comment opposed to the exemption application, FMCSA notes that AWM did not cite the source of the information presented and did not provide any specific concerns or supporting data regarding the detailed and comprehensive IANA IRPs or associated requirements developed by the IANA IRP Mechanics Training Task Force. FMCSA further notes that the crash cited by AWM occurred several years prior to the original application for exemption granted to IANA, and thus is not germane to the safety analysis of the IRPs used to develop training materials since that time.

VII. Exemption Decision

A. Grant of Exemption

FMCSA hereby renews a limited 5-year exemption to motor carriers and intermodal equipment providers from the requirements in 49 CFR 396.19(a)(3)(ii) and 396.25(d)(3)(ii) to ensure that an individual complete training, experience, or a combination thereof totaling at least 1 year, provided that those individuals successfully complete a training program that has self-certified with IANA as meeting the requirements of the terms and conditions below. The inspector qualification requirements in 49 CFR 396.19(a)(1) and (2) and 396.25(d)(1) and (2) continue to apply.

The exemptions are effective August 18, 2025, through August 17, 2030, 11:59 p.m. local time, unless rescinded earlier by FMCSA.

B. Applicability of Exemption

This exemption is limited to individuals performing periodic inspections of, and brake system inspection, maintenance, service, or repair of, IME, and does not eliminate the requirement under §§ 396.19(a)(3)(ii) and 396.25(d)(3)(ii) that individuals have at least 1 year of training or experience or a combination thereof to be qualified to conduct periodic inspections of or brake system inspection, maintenance, service, or repair on commercial vehicles other than IME.

C. Terms and Conditions

This exemption allows individuals to meet the inspector qualification requirements of 49 CFR 396.19(a)(3)(ii) and 396.25(d)(3)(ii) if they have completed a training program using a curriculum consistent with (1) a set of 53 IRPs that have been developed by IANA and (2) the Competency Documents, Task Lists, and Question Matrices that have been developed by IANA for each of the 53 IRPs, subject to all the following terms and conditions:

1. The training provider must self-certify that its inspector training program satisfies all the requirements of these terms and conditions. Each program must:

a. Provide an inspector training program that is consistent with IANA's IRPs which are updated from time to time and includes at a minimum IRP C.101 Chassis—Safety and Inspection Procedures, IRP C.104 Credentials, Markings and Labeling—Inspect, IRP C.201 Lamps and Reflectors—Inspect and Repair, IRP C.401 Wheel-End—Inspect, Disassemble and Assemble, IRP C501 Upper Coupler/Kingpin—Inspect, Repair and Replace, IRP C.601 Chassis Frame—Inspection, IRP C.607 Integral Locking Devices—Inspect, Repair and Replace, and Section 800—Brakes; IRPs C.801 through C.812.

b. Provide at least:

i. 540 hours of classroom and hands-on instruction exclusive of time for new individual entrants to satisfy the requirements described below, or;

ii. 210 hours of classroom and hands-on instruction exclusive of time for individual entrants who have already completed at least 330 hours of combined classroom and hands-on experience and who have taken and successfully passed the ASE T4 and T8 tests.

c. Provide instructional training such that approximately one-third of the instruction is classroom based and two-thirds of the instruction is laboratory or hands-on, consistent with the IANA IRPs.

d. Provide notice to IANA of the training program's self-certification, including the effective date of self-certification.

e. Provide graduates with certificates of program completion that indicate the individual has satisfactorily completed an inspector training program consistent with the terms of this exemption.

f. Maintain a list of individuals to whom it has issued a certificate as described in paragraph (d), confirm whether an individual has successfully completed its inspector training program, and provide such documentation upon the request of FMCSA, or a motor carrier or IEP that employs, seeks to employ, or otherwise utilizes, the individual as a qualified inspector.

g. Allow FMCSA access to any documents or records relating to the inspector training program it provides that may be necessary for FMCSA to evaluate the educator's compliance with the terms and conditions of this exemption.

2. IANA must maintain, publish, and provide to FMCSA, a public list of the training programs that have self-certified as having curricula that meet the terms and conditions of this exemption. IANA must remove from the list of self-certified training programs any training provider that FMCSA or IANA determines does not comply with the terms and conditions of the exemption.

3. Motor carriers and IEPs using an individual qualified under the terms and conditions of this exemption to perform annual inspections under 49 CFR 396.17 must ensure that the individual's training program was on IANA's list of self-certified training programs as of the date on the individual's certificate of program completion and must continue to retain evidence of the individual's qualifications, as required by 49 CFR 396.19(b) and 49 CFR 396.25(e).

The terms and conditions of this exemption do not delegate any FMCSA responsibility to IANA. The exemption also does not authorize IANA to collect a fee on behalf of the government, or to state or imply that any third party's payment for IANA's training services is in lieu of an otherwise applicable government fee. IANA is not offering goods or services to FMCSA. Granting this exemption does not create any expectation of payment or obligation to pay future claims.

VIII. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

IX. Termination

The exemption will be rescinded if: (1) IANA, training providers, motor carriers, intermodal equipment providers (IEP), or individuals fail to comply with the terms and conditions of the exemption; (2) the exemption has resulted in a lower level of safety than was maintained before it was granted; or (3) continuation of the exemption would not be consistent with the goals and objectives of 49 U.S.C. 31136(e) and 31315(b).

Interested parties possessing information demonstrating that the exemption granted herein does not result in the requisite statutory level of safety should immediately notify FMCSA by email at MCPSV@DOT.GOV. The Agency will evaluate any such information and, if safety is being compromised or if the continuation of the exemption is not consistent with the goals and objectives of 49 U.S.C. 31136 or chapter 313, will take immediate steps to revoke the exemption.

Jesse Elison,
Chief Counsel.

[FR Doc. 2025-18425 Filed 9-22-25; 8:45 am]

BILLING CODE 4910-EX-P